DEPARTMENT OF HEALTH AND HUMAN SERVICES

Centers for Disease Control and Prevention

Disease, Disability, and Injury Prevention and Control Special Emphasis Panel (SEP)—RFA-CK-22-006, Clinical and Applied Research Strategies for the Prevention and Control of Fungal Diseases; Cancellation of Meeting

AGENCY: Centers for Disease Control and Prevention, Department of Health and Human Services.

ACTION: Notice.

SUPPLEMENTARY INFORMATION: Notice is hereby given of a change in the meeting of the Disease, Disability, and Injury Prevention and Control Special Emphasis Panel (SEP)—RFA-CK-22-006, Clinical and Applied Research Strategies for the Prevention and Control of Fungal Diseases; April 14, 2022, 10:00 a.m.-5:00 p.m., EDT. The teleconference was published in the Federal Register on February 14, 2022, Volume 87, Number 30, page 8251.

This meeting is being canceled in its entirety.

FOR FURTHER INFORMATION CONTACT: Gregory Anderson, M.S., M.P.H., Scientific Review Officer, CDC, National Center for HIV, Viral Hepatitis, STD, and TB Prevention, 1600 Clifton Road NE, Mailstop US8-1, Atlanta, Georgia 30329, (404) 718-8833, ganderson@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-04259 Filed 2-28-22; 8:45 am]

BILLING CODE 4163-18-P